ENVIRONMENTAL PROTECTION AGENCY

[FRL OP-OFA-163]

Environmental Impact Statements; Notice of Availability

Responsible Agency: Office of Federal Activities, General Information 202-564-5632 or https://www.epa.gov/nepa.

Weekly receipt of Environmental Impact Statements (EIS)

Filed January 13, 2025 10 a.m. EST through January 27, 2025 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20250017, Draft Supplement, TVA, TN, Clinch River Nuclear Site Advanced Nuclear Reactor Technology Park Unit 1, Comment Period Ends: 03/18/2025, Contact: Carol Butler Freeman 641-396-2364.

Amended Notice

EIS No. 20090190, Draft, USFS, OR, WITHDRAWN—Wallowa-Whitman National Forest Travel Management Plan Designate Roads Trails and Areas for Motor Vehicle User Baker Grant Umatilla Union and Wallowa Counties OR, Contact: Cindy Whitlock 541-962-8501.

Revision to FR Notice Published 06/19/2009; Officially Withdrawn per request of the submitting agency.

EIS No. 20120063, Final, USFS, OR, WITHDRAWN—Wallowa-Whitman National Forest Travel Management Plan Designate Roads Trails and Areas for Motor Vehicle User Baker Grant Umatilla Union and Wallowa Counties OR, Contact: Cindy Christensen 541-962-8501. Revision to FR Notice Published 03/16/2012; Officially Withdrawn per request of the submitting agency.

EIS No. 20240110, Draft, USFS, NAT, WITHDRAWN—Land Management Plan Direction for Old-Growth Forest Conditions Across the National Forest System, Contact: Jennifer McRae 202-791-8488. Revision to FR Notice Published 06/21/2024; Officially Withdrawn per request of the submitting agency.

EIS No. 20240222, Draft, FERC, AL, R.L. Harris Hydroelectric Project, Comment Period Ends: 02/19/2025, Contact: Office of External Affairs 866-208-3372. Revision to FR Notice Published 11/29/2024; Extending the Comment Period from 01/21/2025 to 02/19/2025.

EIS No. 20240225, Draft Supplement, NRC, SC, NUREG-1437, Supplement 15, Second Renewal, Generic Environmental Impact Statement for License Renewal of Nuclear Plants: Regarding Subsequent License Renewal of Virgil C. Summer Nuclear Station, Unit 1, Draft Report for Comment, Comment Period Ends: 02/11/2025, Contact: Kim Conway 301-415-1335.

Revision to FR Notice Published 12/06/2024; Extending the Comment Period from 01/21/2025 to 02/11/2025.

Dated: January 28, 2025.
Nancy Abrams,
Associate Director, Office of Federal Activities.

[FR Doc. 2025-02045 Filed 1-30-25; 8:45 am]

BILLING CODE 6560-50-P